DEPARTMENT OF HEALTH AND HUMAN SERVICES

Food and Drug Administration

Epidemiology Research Needs Related to the Radiofrequency Energy From Wireless Phones

AGENCY: Food and Drug Administration, HHS.

ACTION: Notice of public meeting.

The Food and Drug Administration (FDA) is announcing a public meeting to discuss the health effects of radio frequency (RF) emissions from wireless phones. Currently, the scientific literature relating to the health effects of low level exposure to RF does not demonstrate the existence of any health risk from wireless phones. National and international scientific experts will discuss the need for research into the incidence, distribution, and control of any adverse effects related to RF energy from wireless phones. This meeting is being convened as part of the Cooperative Research and Development Agreement (CRADA) between FDA’s Center for Devices and Radiological Health and the Cellular Telecommunications Industry Association (CTIA).

Date and Time: The meeting will be held on April 18, 2001, 8:30 a.m. to 5 p.m. and on April 19, 2001, 8:30 a.m. to 5 p.m.

Location: The meeting will be held at The Regal Cincinnati Hotel, Colonnada B, second floor, 150 West Fifth St., Cincinnati, OH.

Contact: Russell D. Owen, Center for Devices and Radiological Health, Food and Drug Administration (HFZ-114), 12709 Twinbrook Pkwy., Rockville, MD 20857, 301-443-7118, FAX 301-594-6775. Further information about the CRADA is available on the Internet at: http://www.fda.gov/cdrh/ocd/wlessphonecrada.html.

Agenda: On April 18, 2001, completed and ongoing epidemiology studies will be reviewed and scientific questions that have been raised by this research will be discussed. On April 19, 2001, specific studies that could address these scientific questions will be discussed.

Procedure: Interested persons may present scientific information relevant to items on the agenda. Written submissions may be made to the contact person by April 6, 2001. Oral presentations from the public will be scheduled on April 18, 2001, between 3 p.m. and 5 p.m. Time allotted for each presentation may be limited. Those desiring to make formal oral presentations should notify the contact person before April 1, 2001, and submit a brief statement of the general nature of the information they wish to present, the names and addresses of proposed participants, and an indication of the approximate time requested to make their presentation.

Transcripts: Transcripts of the meeting may be requested in writing from the Freedom of Information Office (HFI-35), Food and Drug Administration, 5600 Fishers Lane, rm. 12A-16, Rockville, MD 20857, approximately 15 working days after the meeting at a cost of 10 cents per page.

If you need special accommodations due to a disability, please contact Abiy B. Desta, 301-443-7192 at least 7 days in advance.

Dated: March 20, 2001.
Ann M. Witt,
Acting Associate Commissioner for Policy.

[FR Doc. 01-7447 Filed 3-26-01; 8:45 am]

BILLING CODE 4160-01-S